ADVISORY COUNCIL ON HISTORIC PRESERVATION

Notice of Advisory Council on Historic Preservation Quarterly Business Meeting

AGENCY: Advisory Council on Historic Preservation.

ACTION: Notice of Advisory Council on Historic Preservation Quarterly Business Meeting.

SUMMARY: Notice is hereby given that the Advisory Council on Historic Preservation (ACHP) will hold its next quarterly meeting on Thursday, March 23, 2017. The meeting will be held in Room SR325 at the Russell Senate Office Building at Constitution and Delaware Avenues NE., Washington, DC, starting at 8:30 a.m. EST.

DATES: The quarterly meeting will take place on Thursday, March 23, 2017, starting at 8:30 a.m.

ADDRESSES: The meeting will be held in Room SR325 at the Russell Senate Office Building at Constitution and Delaware Avenues NE., Washington, DC.

FOR FURTHER INFORMATION CONTACT: Cindy Bienvenue, 202-517-0202, cbienvenue@achp.gov.

SUPPLEMENTARY INFORMATION: The Advisory Council on Historic Preservation (ACHP) is an independent federal agency that promotes the preservation, enhancement, and sustainable use of our nation's diverse historic resources, and advises the President and the Congress on national historic preservation policy. The goal of the National Historic Preservation Act (NHPA), which established the ACHP in 1966, is to have federal agencies act as responsible stewards of our nation's resources when their actions affect historic properties. The ACHP is the only entity with the legal responsibility to encourage federal agencies to factor historic preservation into their decision making. For more information on the ACHP, please visit our Web site at www.achp.gov.

The agenda for the upcoming quarterly meeting of the ACHP is the following:

I. Chairman's Welcome

II. Swearing-In Ceremony

III. Transitions

A. The New Administration

B. ACHP Transition to Full-Time Chairman

1. Operating Procedures Amendments

2. Further Organizational Issues

IV. Section 106 Issues

A. Infrastructure Projects and Tribal Consultation Issues

B. Administration Infrastructure Initiative

C. Program Alternatives Under Development

D. Federal Property Management Issues

E. Impact of Regulatory Reform Initiatives on ACHP Regulations

V. Historic Preservation Policy and Programs

A. Building a More Inclusive Preservation Program: Youth Initiatives

B. Historic Preservation Legislation in the 115th Congress

IV. New Business

VI. Adjourn

The meetings of the ACHP are open to the public. If you need special accommodations due to a disability, please contact Cindy Bienvenue, 202-517-0202 or cbienvenue@achp.gov, at least seven (7) days prior to the meeting.

Authority: 54 U.S.C. 304102.

Dated: March 7, 2017.
Javier E. Marques,
General Counsel.

[FR Doc. 2017-04842 Filed 3-10-17; 8:45 am]

BILLING CODE 4310-K6-P